DEPARTMENT OF COMMERCE

National Oceanic and Atmospheric Administration

RIN 0648-XJ54

Marine Mammals; File No. 13428

AGENCY: National Marine Fisheries Service (NMFS), National Oceanic and Atmospheric Administration (NOAA), Commerce.

ACTION: Notice; issuance of permit.

SUMMARY: Notice is hereby given that Niladri Basu, Ph.D., Department of Environmental Health Sciences, University of Michigan, 109 South Observatory Road, Ann Arbor, MI 48109-2029, has been issued a scientific research permit to import marine mammal specimens for scientific research.

ADDRESSES: The permit and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Jennifer Skidmore or Kate Swails, (301) 713-2289.

SUPPLEMENTARY INFORMATION: On June 12, 2008, notice was published in the Federal Register (73 FR 33399) that a request for a scientific research permit had been submitted by the above-named individual. The requested permit has been issued under the authority of the Marine Mammal Protection Act of 1972, as amended (16 U.S.C. 1361 et seq.) and the regulations governing the taking and importing of marine mammals (50 CFR part 216).

The permit authorizes the importation of brain tissues from 40 baikal seals (Phoca sibirica). These samples were collected in 2005 under a joint agreement between the East-Siberian Research and Production Fisheries Center (Russia) and the Center for Marine Environmental Studies (Japan). The purpose of this study is to determine: (1) the types and amounts of heavy metals that baikal seals accumulate in specific brain regions; and (2) whether these exposures are a neurotoxicological concern by using novel biomarker technologies. This permit will expire one year from date of issuance.

In compliance with the National Environmental Policy Act of 1969 (42 U.S.C. 4321 et seq.), a final determination has been made that the activity proposed is categorically excluded from the requirement to prepare an environmental assessment or environmental impact statement.

Dated: September 8, 2008.
P. Michael Payne,
Chief, Permits, Conservation and Education Division, Office of Protected Resources, National Marine Fisheries Service.

[FR Doc. E8-21349 Filed 9-11-08; 8:45 am]

BILLING CODE 3510-22-S